DEPARTMENT OF COMMERCE

International Trade Administration

[C-508-813]

Magnesium From Israel: Postponement of Preliminary Determination in the Countervailing Duty Investigation

AGENCY: Enforcement and Compliance, International Trade Administration, Department of Commerce.

DATES: Applicable February 6, 2019.

FOR FURTHER INFORMATION CONTACT: Lana Nigro or Ethan Talbott, AD/CVD Operations, Office I, Enforcement and Compliance, International Trade Administration, U.S. Department of Commerce, 1401 Constitution Avenue NW, Washington, DC 20230; telephone (202) 482-1779 or (202) 482-1030, respectively.

SUPPLEMENTARY INFORMATION:

Background

On November 13, 2018, the Department of Commerce (Commerce) initiated a countervailing duty (CVD) investigation of imports of magnesium from Israel.¹ The preliminary determination was due no later than January 17, 2019. Commerce exercised its discretion to toll all deadlines affected by the partial federal government closure from December 22, 2018, through the resumption of operations on January 29, 2019.² As a result, the deadline for the preliminary determination was revised to February 26, 2019.

¹ See Magnesium from Israel: Initiation of Countervailing Duty Investigation, 83 FR 58529 (November 20, 2018).

² See memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Postponement of Preliminary Determination

Section 703(b)(1) of the Tariff Act of 1930, as amended (the Act), requires the

Department to issue the preliminary determination in a countervailing duty investigation within 65 days after the date on which Commerce initiated the investigation. However, section 703(c)(1) of the Act permits Commerce to postpone the preliminary determination until no later than 130 days after the date on which Commerce initiated the investigation if: (A) The petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is US Magnesium LLC.

On December 18, 2018, the petitioner submitted a timely request that Commerce postpone the preliminary CVD determination.⁴ The petitioner stated that it requests postponement so that all parties have sufficient time to develop the record in this investigation.⁵ In accordance with 19 CFR 351.205(e), the petitioner has stated the reasons for requesting a postponement of the preliminary determination, and Commerce finds no compelling reason to deny the request. Therefore, in accordance with section 703(c)(1)(A) of the Act, Commerce is fully extending the deadline for the preliminary determination. Because, as noted above, Commerce tolled the original deadline for the preliminary determination to account for the partial federal government shutdown, the extension is effectively 65 days from the revised deadline for the preliminary determination of February 26, 2019. As a result, the preliminary determination will be due not later than May 2, 2019.⁶ Pursuant to section 705(a)(1) of the Act and 19 CFR 351.210(b)(1), the deadline for the final determination of this investigation will continue to be 75 days after the date of the preliminary determination.

⁴ See the petitioner's Letter titled, “Magnesium from Israel/Petitioner's Request for Postponement of CVD Preliminary Determination,” dated December, 18, 2018.

⁵ Id.

⁶ This postponement includes the 40-day extension granted as a result of the partial federal government shutdown.

This notice is issued and published pursuant to section 703(c)(2) of the Act and 19 CFR 351.205(f)(1).

Dated: January 31, 2019.
Christian Marsh,
Deputy Assistant Secretary for Enforcement and Compliance.

[FR Doc. 2019-01266 Filed 2-5-19; 8:45 am]

BILLING CODE 3510-DS-P